THE PRESIDIO TRUST

Limiting of Vehicular Use of a Portion of Battery Caulfield Road; Extension of Comment Period

SUMMARY: By Federal Register notice of July 29, 2010 (75 FR 44820), the Presidio Trust (Trust) announced its solicitation of public comment in connection with two alternative approaches to limit vehicular use of a portion of Battery Caulfield Road in the Presidio of San Francisco: (1) Limitation of vehicular use during weekday peak a.m. and p.m. hours, 7 to 9 a.m. and 5 to 7 p.m., as well as on weekends (Alternative 1); or (2) limitation of vehicular use at all times (Alternative 2). The Trust is extending the public comment period to October 15, 2010. Although the deadline for the submission of written comments is being extended, interested parties should provide comments as soon as possible.

DATES: Comments must be received by the Trust no later than October 15, 2010.

FOR FURTHER INFORMATION CONTACT: John Fa (415-561-5065), The Presidio Trust, 34 Graham Street, P.O. Box 29052, San Francisco, CA 94129-0052.

Comments: Address all written comments about Alternative 1, Alternative 2, or both to: John Fa, The Real Estate Department, The Presidio Trust, 34 Graham Street, P.O. Box 29052, San Francisco, CA 94129-0052.

If individuals submitting comments request that their address or other contact information be withheld from public disclosure, it will be honored to the extent allowable by law. Such requests must be stated prominently at the beginning of the comments. E-mail comments may be submitted to: BatteryCaulfield@presidiotrust.gov; for such comments to be considered, the submitter must include his/her name in the e-mail. Anonymous comments, or electronic comments that do not include the submitter's name, may not be considered. The Trust will make available for public inspection all written comments received and considered. The Trust may modify the proposed use limits following consideration of public comment, and the final decision of the Trust will be published in the Federal Register.

Dated: August 20, 2010.
Karen A. Cook,
General Counsel.

[FR Doc. 2010-21252 Filed 8-25-10; 8:45 am]

BILLING CODE 4310-4R-P